ENVIRONMENTAL PROTECTION AGENCY

[EPA-HQ-OECA-2013-0301; FRL—9904-40-OEI]

Information Collection Request Submitted to OMB for Review and Approval; Comment Request; NESHAP for Beryllium (Renewal)

AGENCY: Environmental Protection Agency (EPA).

ACTION: Notice.

SUMMARY: The Environmental Protection Agency has submitted an information collection request (ICR), “NESHAP for Beryllium (40 CFR Part 61, Subpart C) (Renewal)” (EPA ICR No. 0193.11, OMB Control No. 2060-0092), to the Office of Management and Budget (OMB) for review and approval in accordance with the Paperwork Reduction Act (44 U.S.C. 3501 et seq). This is a proposed extension of the ICR, which is currently approved through March 31, 2014. Public comments were previously requested via the Federal Register (78 FR 33409) on June 4, 2013, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before January 23, 2014.

ADDRESSES: Submit your comments, referencing Docket ID Number EPA-HQ-OECA-2013-0301, to: (1) EPA online, using www.regulations.gov (our preferred method), by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: The sources subject to this rule (i.e., extraction plants, ceramic plants, foundries, incinerators, propellant plants, and machine shops which process beryllium and its derivatives), complying with the onetime only stack test, would be required to submit initial notification reports and a one-time-only report with the emission limit determination. The sources complying with the alternative ambient air quality limit by operating a continuous monitor in the vicinity of the affected facility are required to submit a monthly report of all measured concentrations. Records shall be retained for two years.

Form Numbers: None.

Respondents/affected entities: Sources processing beryllium ore, beryllium, beryllium oxides, beryllium alloys, or beryllium-containing waste.

Respondent's obligation to respond: Mandatory (40 CFR part 61, subpart C).

Estimated number of respondents: 33 (total).

Frequency of response: Monthly and occasionally.

Total estimated burden: 2,629 hours (per year). “Burden” is defined at 5 CFR 1320.3(b).

Total estimated cost: $292,208 (per year), includes $35,000 in either annualized capital or operation & maintenance costs.

Changes in the Estimates: There is an apparent increase of two hours in the total estimated respondent burden as currently identified in the OMB Inventory of Approved Burdens. This increase is due to rounding, and is not due to any program changes. The most-recently approved ICR rounded the burden hours associated with recordkeeping for operating parameters and emissions to the nearest whole number. In contrast, burden hours are rounded to two decimal places in this ICR, resulting in an apparent increase of two hours.

There is an increase in the respondent cost from the most recently-approved ICR due to the use of updated labor rates. This ICR references labor rates from the Bureau of Labor Statistics to calculate the respondent burden cost.

John Moses,
Director, Collection Strategies Division.

[FR Doc. 2013-30609 Filed 12-23-13; 8:45 am]

BILLING CODE 6560-50-P